DEPARTMENT OF HOMELAND SECURITY

Coast Guard

33 CFR Part 117

[Docket No. USCG-2014-0978]

Drawbridge Operation Regulation; Upper Mississippi River, Dubuque, IA

AGENCY: Coast Guard, DHS.

ACTION: Notice of deviation from drawbridge regulations.

SUMMARY: The Coast Guard has issued a temporary deviation from the operating schedule that governs the Illinois Central Railroad Drawbridge, across the Upper Mississippi River, mile 579.9, at Dubuque, Iowa. The deviation is necessary to allow the bridge owner time to perform preventive maintenance that is essential to the continued safe operation of the drawbridge. Maintenance is scheduled in the winter when there is less impact on navigation, instead of scheduling work in the summer when river traffic increases. This deviation allows the bridge to open on signal if at least 24-hours advance notice is given. It further allows the bridge to remain closed for up to 72 hours in duration occasionally to replace larger components as long as 72-hours notice is given to the USCG District Eight Western Rivers Bridge Branch.

DATES: This deviation is effective from 5 p.m., December 15, 2014 until 9 a.m., March 1, 2015.

ADDRESSES: The docket for this deviation, (USCG-2014-0978) is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal Holidays.

FOR FURTHER INFORMATION CONTACT: If you have questions on this temporary deviation, call or email Eric A. Washburn, Bridge Administrator, Western Rivers, Coast Guard; telephone 314-269-2378, email Eric.Washburn@uscg.mil. If you have questions on viewing the docket, call Cheryl F. Collins, Program Manager, Docket Operations, telephone 202-366-9826.

SUPPLEMENTARY INFORMATION: The Chicago, Central & Pacific Railroad requested a temporary deviation for the Illinois Central Railroad Drawbridge, across the Upper Mississippi River, mile 579.9, at Dubuque, Iowa to open on signal if at least 24-hours advance notice is given for 76 days from 5 p.m., December 15, 2014 until 9 a.m., March 1, 2015 for scheduled maintenance on the bridge. The deviation further allows the bridge to remain closed for up to 72 hours in duration occasionally to replace larger components as long as 72-hours notice is given to the USCG District Eight Western Rivers Bridge Branch.

The Illinois Central Railroad Drawbridge currently operates in accordance with 33 CFR 117.5, which states the general requirement that the drawbridge shall open on signal.

There are no alternate routes for vessels transiting this section of the Upper Mississippi River.

Winter conditions on the Upper Mississippi River coupled with the closure of Army Corps of Engineer's Lock No. 17 (Mile 437.1 UMR) and Lock No. 20 (Mile 343.2 UMR) from 7 a.m. January 5, 2015 until 12 p.m., March 6, 2015 will preclude any significant navigation demands for the drawspan opening. In addition, Army Corps Lock No. 12 (Mile 556.7 UMR) and Lock No. 13 (Mile 522.5 UMR) will be closed from 7:30 a.m. December 15, 2014 to 11:00 March 1, 2015.

The Illinois Central Railroad Drawbridge, in the closed-to-navigation position, provides a vertical clearance of 19.9 feet above normal pool. Navigation on the waterway consists primarily of commercial tows and recreational watercraft and will not be significantly impacted. The drawbridge will open if at least 24-hours advance notice is given and will close for up to 72 hours provided 72-hours advance notice is given to the USCG District Eight Western Rivers Bridge Branch. This temporary deviation has been coordinated with waterway users. No objections were received.

In accordance with 33 CFR 117.35(e), the drawbridge must return to its regular operating schedule immediately at the end of the effective period of this temporary deviation. This deviation from the operating regulations is authorized under 33 CFR 117.35.

Dated: November 24, 2014.
Eric A. Washburn,
Bridge Administrator, Western Rivers.

[FR Doc. 2014-28842 Filed 12-8-14; 8:45 am]

BILLING CODE 9110-04-P